NATIONAL ARCHIVES AND RECORDS ADMINISTRATION

36 CFR Part 1290 and Chapter XIV

RIN 3095-AB00

John F. Kennedy Assassination Records Collection Rules

AGENCY: National Archives and Records Administration (NARA).

ACTION: Final rule.

SUMMARY: NARA is transferring regulations providing guidance for the interpretation and implementation of the John F. Kennedy Assassination Records Collection Act of 1992 from 36 CFR chapter XIV to chapter XII without substantive change. The Assassination Records Review Board that originally issued the regulations terminated on September 30, 1998, but NARA has determined that these regulations are still required to provide guidance to agencies.

EFFECTIVE DATE: June 27, 2000.

FOR FURTHER INFORMATION CONTACT: Nancy Allard at telephone number 301-713-7360, ext. 226, or fax number 301-713-7270.

SUPPLEMENTARY INFORMATION: The Assassination Records Review Board was established by the John F. Kennedy Assassination Records Collection Act of 1992 (106 Stat. 3443). At the termination of the Review Board on September 30, 1998, its records were transferred to the Archivist of the United States. NARA continues to maintain and supplement the collection under the provisions of the Act. NARA is, therefore, the successor in function to this defunct independent agency.

The Review Board issued regulations at 36 CFR chapter XIV providing guidance on the Act (part 1400) on June 28, 1995. In this final rule we are transferring those regulations without substantive change to a new 36 CFR part 1290 in new subchapter H. Agencies continue to identify records that may qualify as assassination records and need to have this guidance available.

Other Review Board regulations implementing Government in the Sunshine Act, FOIA, and the Privacy Act for the Board's own operations (parts 1405, 1410, and 1415) are withdrawn from the Code of Federal Regulations as unnecessary. The Board's records were transferred to NARA and are now subject to NARA regulations.

This rule is effective upon publication for “good cause” as permitted by the Administrative Procedure Act (5 U.S.C. 553(d)(3)). If the rule is not effective before July 1, 2000, the regulations of the defunct Review Board in 36 CFR ch. XIV will continue to appear in the print and electronic copies of title 36. NARA believes that delaying the effective date for 30 days is unnecessary as this rule represents a minor technical amendment and there is no substantive impact on the public or Federal agencies.

This rule is not a significant regulatory action for the purposes of Executive Order 12866 and has not been reviewed by the Office of Management and Budget. This rule does not have federalism implications and is not a major rule under 5 U.S.C. 801. As required by the Regulatory Flexibility Act, it is hereby certified that this rule will not have a significant impact on a substantial number of small entities.

List of Subjects in 36 CFR Part 1290

Archives and records.

For the reasons set forth in the preamble and under the authority of Pub. L. 103-345 (108 Stat. 3128), NARA amends chapters XII and XIV of title 36, Code of Federal Regulations, as follows:

CHAPTER XII—NATIONAL ARCHIVES AND RECORDS ADMINISTRATION

SUBCHAPTER H—JFK ASSASSINATION RECORDS

1. In 36 CFR ch. XII, establish Subchapter H, consisting of parts 1290 through 1299, and add a heading for Subchapter H to read as set forth above.

PART 1400—[REDESIGNATED AS PART 1290]

2. Redesignate 36 CFR part 1400 as part 1290 and reserve parts 1291-1299.

CHAPTER XIV—[VACATED]

PARTS 1405, 1410, 1415—[REMOVED]

3. In 36 CFR ch. XIV, remove parts 1405, 1410, and 1415, and vacate the chapter.

Dated: June 21, 2000.
John W. Carlin,
Archivist of the United States.

[FR Doc. 00-16191 Filed 6-26-00; 8:45 am]

BILLING CODE 7515-01-P